DEPARTMENT OF VETERANS AFFAIRS

[OMB Control No. 2900-0636]

Agency Information Collection (Accelerated Payment Verification of Completion Letter): Activity Under OMB Review

AGENCY: Veterans Benefits Administration, Department of Veterans Affairs

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before February 3, 2012.

ADDRESSES: Submit written comments on the collection of information through www.Regulations.gov or to VA's OMB Desk Officer, OMB Human Resources and Housing Branch, New Executive Office Building, Room 10235, Washington, DC 20503 (202) 395-7316. Please refer to “OMB Control No. 2900-0636” in any correspondence.

FOR FURTHER INFORMATION CONTACT: Denise McLamb, Enterprise Records Service (005R1B), Department of Veterans Affairs, 810 Vermont Avenue NW., Washington, DC 20420, (202) 632-7479, FAX (202) 273-0487 or email denise.mclamb@va.gov. Please refer to “OMB Control No. 2900-0636.”

SUPPLEMENTARY INFORMATION:

Title: Accelerated Payment Verification of Completion Letter, VA Form 22-0840.

OMB Control Number: 2900-0636.

Type of Review: Extension of a currently approved collection.

Abstract: Claimants electing to receive an accelerate payment for educational assistance allowance must certify they received such payment and how the payment was used. The data collected is used to determine the claimant's entitlement to accelerated payment.

An agency may not conduct or sponsor, and a person is not required to respond to a collection of information unless it displays a currently valid OMB control number. The Federal Register Notice with a 60-day comment period soliciting comments on this collection of information was published on September 28, 2011, at pages 60132-60133.

Affected Public: Individuals or households.

Estimated Annual Burden: 44 hours.

Estimated Average Burden per Respondent: 5 minutes.

Frequency of Response: On occasion.

Estimated Number of Respondents: 349.

Estimated Annual Responses: 524.

Dated: December 28, 2011.
By direction of the Secretary.
Denise McLamb,
Program Analyst, Enterprise Records Service.

[FR Doc. 2011-33707 Filed 1-3-12; 8:45 am]

BILLING CODE 8320-01-P